PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 U.S.C. chapter 35).

DATES: Submit comments on or before September 14, 2015.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION: The information in the Peace Corps Volunteers Long Term Health Outcomes survey will be compiled and analyzed by the U.S. Department of Health and Human Services, Centers for Disease Control and Prevention in conjunction with the Peace Corps, Office of Health Services, Epidemiology and Surveillance Unit to determine what the long term health outcomes of Peace Corps Volunteer service are.

OMB Control Number: 0420-XXXX.

Title: Peace Corps Volunteers Long Term Health Outcomes Survey.

Type of Review: New.

Affected Public: Individuals.

Respondents' Obligation To Reply: Voluntary.

Burden to the Public:

a. Estimated number of Returned Peace Corps Volunteers: 44,787.

b. Estimated number of respondents: 11,196.

c. Frequency of response: One time.

d. Completion time: 15 minutes.

e. Annual burden hours: 2,799 hours.

General Description of Collection: The Peace Corps needs the information that will be collected on the survey to inform the programming and training needs of Peace Corps Volunteers. The data generated from this survey can help Peace Corps understand long-term health outcomes of Peace Corps Volunteers in terms of prevalence of select diseases in comparison to the general U.S. population.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on July 10, 2015.
Denora Miller,
FOIA/Privacy Act Officer, Management.

[FR Doc. 2015-17390 Filed 7-15-15; 8:45 am]

BILLING CODE 6051-01-P